DEPARTMENT OF LABOR

Mine Safety and Health Administration

Fee Adjustment for Testing, Evaluation, and Approval of Mining Products

AGENCY: Mine Safety and Health Administration (MSHA), Labor.

ACTION: Notice of fee adjustment.

SUMMARY: This notice describes MSHA's revised fee schedule for testing, evaluating, and approving mining products as permitted by 30 CFR 5.50. MSHA charges applicants a fee to cover its costs associated with testing and evaluating equipment and materials manufactured for use in the mining industry. MSHA will apply the new fee schedule beginning on January 1, 2007. The new fee schedule is based on MSHA's direct and indirect costs for providing services during fiscal year (FY) 2006.

DATES: This fee schedule is effective January 1, 2007.

FOR FURTHER INFORMATION CONTACT: John P. Faini, Chief, Approval and Certification Center (A&CC), 304-547-2029 or 304-547-0400. (These are not toll-free numbers.)

SUPPLEMENTARY INFORMATION:

I. Background

Under 30 CFR 5.50, MSHA may revise the fee schedule for testing, evaluation, and approval of mining products at least once every three years although the fee schedule must remain in effect for at least one year. Further, on August 9, 2005, MSHA published a direct final rule at 70 FR 46336 that modified the requirements in 30 CFR part 5. In addition to updating computation procedures and other changes, the final rule allowed outside organizations to conduct 30 CFR part 15 testing (explosives and sheathed explosive units) on MSHA's behalf, on a fee schedule established by the organization. 70 FR 46336, 46336 (2005).

The last time MSHA revised the fee schedule was on December 30, 2005, which became effective on January 1, 2006. 70 FR 77427. Accordingly, MSHA has revised the fee schedule for 2007 according to the procedures described in the direct final rule published at 70 FR 46336. This notice of fee adjustment does not apply to the 30 CFR part 15 testing exception to the fee schedule described in section 5.30(a) of this Part. In addition, this notice does not apply to travel expenses incurred under this Part. When the nature of the product requires MSHA to test and evaluate the product at a location other than on MSHA premises, MSHA must be reimbursed for the travel, subsistence, and incidental expenses of its representative according to Federal government travel regulations. This reimbursement is in addition to the fees charged for evaluation and testing. A discussion of MSHA's fee computation process for evaluation and testing follows in section II.

II. Fee Computation

MSHA computed the 2007 fees using FY 2006 costs for baseline data. MSHA calculated a weighted-average based on the direct and indirect cost to applicants for testing, evaluation, and approval services rendered during FY 2006. From this average, MSHA computed a single hourly rate, which applies uniformly to all applications for services under this Part.

As a result of this process, MSHA has determined that as of January 1, 2007, the fee will be $80 per hour of services rendered.

III. Applicable Fee

• Applications postmarked before January 1, 2007: MSHA will process these applications under the 2006 hourly rate of $71, which was published on December 30, 2005, at 70 FR 77427. This information is also available on MSHA's Web site at http://www.msha.gov/REGS/FEDREG/NOTICES/2005MISC/05-24691.asp.

• Applications postmarked on or after January 1, 2007: MSHA will publish these applications under the 2007 hourly rate of $80.

Dated: December 21, 2006.
Richard E. Stickler,
Assistant Secretary for Mine Safety and Health.

[FR Doc. E6-22317 Filed 12-27-06; 8:45 am]

BILLING CODE 4510-43-P